DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Cross-Site Evaluation of the Minority Substance Abuse/HIV Prevention Program—(OMB No. 0930-0298)—Revision and Reinstatement

The Substance Abuse and Mental Health Services Administration Center for Substance Abuse Prevention (CSAP) is requesting from the Office of Management and Budget (OMB) approval for the revision of data collection activities for the cross-site study of the Minority HIV/AIDS Initiative (MAI), which includes both youth and adult questionnaires. This revision includes the addition of four cohorts, changes to the data collection procedures based on intervention duration, and the addition of two questions on binge drinking behavior. The instruments were also modified to include six items for adults and three items for youth on military families and deployment that were recently approved by OMB under the CSAP National Outcomes Measures (NOMs) (OMB # 0930-0230). The current approval for the full cross-site is under OMB No. 0930-0298, which expires on 4/30/12.

This cross-site study supports two of SAMHSA's eight Strategic Initiatives: Prevention of Substance Abuse and Mental Illness and Data, Outcomes, and Quality. The primary objectives of the cross-site study are to:

• Determine the success of the MAI in preventing, delaying, and/or reducing the use of alcohol, tobacco, and other drugs (ATOD) among the target populations.

• Measure the effectiveness of evidence-based programs and infrastructure development activities such as: Outreach and training, mobilization of key stakeholders, substance abuse and HIV/AIDS counseling and education, referrals to appropriate medical treatment and/or other intervention strategies (i.e., cultural enrichment activities, educational and vocational resources, and computer-based curricula).

• Assess the process of adopting and implementing the Strategic Prevention Framework (SPF) with the target populations.

Grantees are community based organizations that are required to address the SAMSHA Strategic Prevention Framework (SPF) and participate in this cross-site evaluation. The grantees are expected to provide leadership and coordination on the planning and implementation of the SPF that targets minority populations, the minority reentry population, as well as other high risk groups residing in communities of color with high prevalence of SA and HIV/AIDS.

The grantees are expected to provide an effective prevention process, direction, and a common set of goals, expectations, and accountabilities to be adapted and integrated at the community level. While the grantees have substantial flexibility in choosing their individual evidence-based programs, they are all required to base them on the five steps of the SPF to build service capacity specific to SA and HIV prevention services. Conducting this cross-site evaluation will assist SAMHSA/CSAP in promoting and disseminating optimally effective prevention programs.

Grantees must also conduct ongoing monitoring and evaluation of their projects to assess program effectiveness including Federal reporting of the Government Performance and Results Act (GPRA) Modernization Act of 2010, SAMHSA/CSAP National Outcome Measures (NOMs), and HIV Counseling and Testing. All of this information will be collected through self-report questionnaires administered to program participants. All grantees will use two instruments, one for youth aged between 12 and 17 and one for adults aged 18 and older. The common design for participants in interventions lasting 30 days or longer includes assessments at baseline, program exit, and three to six months post-exit (follow-up). The common questionnaires will be administered to all 30-day intervention (program participants) youth and adults at baseline (first data collection point), program exit (second data collection point), and follow-up (third data collection point). For participants in interventions lasting between 2 and 29 days questionnaires will be administered at baseline and exit. For single session interventions an exit only questionnaire will be administered. See breakdown below:

Intervention duration | Length | Definition | Sections of survey to be administered
Single Session Intervention | 1 day or less | A direct service intervention that lasts one day or less. Participants may receive multiple services during the session, but do not continue in a CSAP HIV grant funded activity for more than one day | • Section One: Facts about You. • 3 to 5 questions from Section Two: Attitudes & Knowledge.
Multiple Session Brief Intervention | Less than 30 days | The participant should receive at least two HIV Grant funded sessions or service encounters. The period of time between the first session or encounter and the last session or encounter should be two to 29 days | • Section One: Facts about You • Section Two: Attitudes & Knowledge.
Multiple Session Long Intervention | 30 days or more | The participant should receive at least two HIV Grant funded sessions or service encounters. The period of time between the first session/encounter and the last session/encounter should be 30 days or more | • Section One: Facts about You. • Section Two: Attitudes & Knowledge. • Section Three: Behavior & Relationships.

The CSAP National Outcome Measures (NOMs) on the instruments have already been approved by OMB (OMB No. 0930-0230) will expire on 2/28/2013. These NOMs data are used to report on Government Performance and Results Act (GPRA) and findings across CSAP programs. For this program, these cross-site instruments are augmented with additional scales (currently approved under OMB No. 0930-0298 and expiring on 4/30/2012) to measure other important risk and protective factors uniquely associated with HIV/AIDS among minority populations and minority re-entry populations in communities of color. The youth (covering ages 12-17) questionnaire contains 128 questions, of which 28 relate to HIV/AIDS and the adult questionnaire contains 122 items, of which 47 relate to HIV/AIDS. Two new questions have been added to both the youth and adult questionnaires to address SAMHSA's need to collect information on binge drinking behavior, not covered under any prior OMB package. These questions are:

1. Females only: During the past 30 days, on how many days did you have 4 or more drinks on the same occasion?

2. Males only: During the past 30 days, on how many days did you have 5 or more drinks on the same occasion?

Procedures are employed to safeguard the privacy and confidentiality of participants. The cross-site evaluation results will have significant implications for the substance abuse and HIV/AIDS prevention fields, the allocation of grant funds, and other evaluation activities conducted by multiple Federal, State, and local government agencies. They will be used to develop Federal policy in support of SAMHSA/CSAP program initiatives, inform the public of lessons learned and findings, improve existing programs, and promote replication and dissemination of effective prevention strategies.

Total Estimates of Annualized Hour Burden

The following table shows the estimated annualized burden for data collection.

Table 1a—Estimates of Annualized Hour Burden by Intervention Length
Intervention length | Number of respondents | Responses per respondent | Total responses | Hours per response | Total hour burden
30-Days or More Intervention
Base line | 7,937 | 1 | 7,937 | 0.83 | 6,588
Exit | 4,887 | 1 | 4,887 | 0.83 | 4,056
Follow-up | 2,942 | 1 | 2,942 | 0.83 | 2,442
Subtotal | 7,937 |  | 15,766 |  | 13,086
2 to 29 Day Intervention
Base line | 1,416 | 1 | 1,416 | 0.5 | 708
Exit | 872 | 1 | 872 | 0.5 | 436
Subtotal | 1,416 |  | 2,288 |  | 1,144
Single Day Intervention
Exit | 2,458 | 1 | 2,458 | 0.25 | 614
Annualized Total | 11,811 |  | 20,512 |  | 14,844

Table 1b—Estimates of Annualized Hour Burden by Survey Type
Questionnaire | Number of respondents | Total responses | Total hour burden
Annualized Total Adult | 9,682 | 16,899 | 12,234
Annualized Total Youth | 2,128 | 3,612 | 2,610
Annualized Total | 11,811 | 20,512 | 14,844

Written comments and recommendations concerning the proposed information collection should be sent by August 15, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-17241 Filed 7-13-12; 8:45 am]

BILLING CODE 4162-20-P